DEPARTMENT OF THE INTERIOR

National Park Service

Notice of Availability for the Record of Decision on the final Environmental Impact Statement for the General Management Plan, Fallen Timbers Battlefield and Fort Miamis National Historic Site, Ohio

AGENCY: National Park Service, Department of the Interior.

SUMMARY: Pursuant to section 102(2)(C) of the National Environmental Policy Act of 1969, the National Park Service (NPS) announces the availability of the Record of Decision for the final General Management Plan and Environmental Impact Statement (GMP/EIS) for the Fallen Timbers Battlefield and Fort Miamis National Historic Site. The Midwest Regional Director approved the Record of Decision for this final GMP/EIS on May 17, 2006. The purpose of the GMP is to set forth the basic management philosophy for the park and to provide strategies for addressing issues and achieving identified management objectives. The final GMP/EIS described and analyzed the environmental impacts of four alternatives for the future management direction of the park.

The Fallen Timbers Battlefield and Fort Miamis National Historic Site is an affiliated area of the National Park System, managed by the Metropolitan Park District of the Toledo Area. The park consists of three units, the Fallen Timbers Battlefield, the Fallen Timbers State Monument, and Fort Miamis. The park commemorates an important period in the development of the United States and the opening of the northwest frontier. It represents the culminating event that demonstrated the tenacity of the American people in their quest for western expansion and the struggle for dominance in the Old Northwest Territory.

The preferred alternative in the final GMP/EIS was selected for implementation. Under this action, Toledo Metroparks will work with the NPS and other partners to protect cultural resources and interpret historic events. Various types of interpretive programs will be developed to encourage visitors to learn about the importance of the park units and the historic events. Most interpretation will take place at the edges of historic resources in order to ensure their preservation. A new visitor center will be built with local funding near the battlefield, and interpretive programs will cover all three units and the American Indian, British, and American perspectives of the time period. Links will be established between the units. Partnerships will be pursued with a wide variety of agencies and organizations to protect view sheds outside the park and to share programming, information, and materials.

The selected action best protects and preserves Fallen Timbers and Fort Miamis National Historic Site's cultural resources while also providing for visitor understanding and appreciation of the site's historic significance. The preferred alternative will not result in impairment of resources and values. The Record of Decision includes a statement of the decision made, synopses of other alternatives considered, the basis for the decision, the rationale for why the selected action is the environmentally preferred alternative, a finding of no impairment of park resources and values, and an overview of public involvement in the decisionmaking process.

FOR FURTHER INFORMATION CONTACT: Mr. James Speck, Director of Planning, Metropolitan Park District of the Toledo Area, 5100 West Central Avenue, Toledo, Ohio 43615-2100, by electronic mail at james.speck@metroparkstoledo.com or by telephone 419-270-7513. Copies of the final GMP/EIS and the Record of Decision are available upon request from Toledo Metroparks at the above address.

Dated: May 17, 2006.
Ernest Quintana,
Regional Director, Midwest Region.

[FR Doc. E6-11428 Filed 7-18-06; 8:45 am]

BILLING CODE 4312-85-P